DEPARTMENT OF LABOR

Employment and Training Administration

[TA-W-55,403]

Broyhill Furniture, Lenoir Chair #3, Lenoir, NC; Notice of Termination of Investigation

Pursuant to section 221 of the Trade Act of 1974, as amended, an investigation was initiated on August 9, 2004 in response to a petition filed on behalf of workers at Broyhill Furniture, Lenoir Chair #3, Lenoir, North Carolina.

The petitioning group of workers is covered by an earlier petition instituted on August 4, 2004 (TA-W-55,373) that is the subject of an ongoing investigation for which a determination has not yet been issued. Further investigation in this case would duplicate efforts and serve no purpose; therefore the investigation under this petition has been terminated.

Signed at Washington, DC, this 12th day of August 2004.
Linda G. Poole,
Certifying Officer, Division of Trade Adjustment Assistance.

[FR Doc. 04-19318 Filed 8-23-04; 8:45 am]

BILLING CODE 4510-30-P